DEPARTMENT OF ENERGY

Federal Energy Regulatory Commission

Combined Notice of Filings

Take notice that the Commission has received the following Natural Gas Pipeline Rate and Refund Report filings:

Filings Instituting Proceedings

Docket Numbers: RP13-177-000.

Applicants: Natural Gas Pipeline Company of America.

Description: Removal of Expiring Agreements to be effective 11/24/2012.

Filed Date: 10/24/12.

Accession Number: 20121024-5042.

Comments Due: 5 p.m. ET 11/5/12.

Docket Numbers: RP13-178-000.

Applicants: USG Pipeline Company, LLC.

Description: Revised Order No. 587-V NAESB Version 2.0 Compliance Filing to be effective 12/1/2012.

Filed Date: 10/24/12.

Accession Number: 20121024-5119.

Comments Due: 5 p.m. ET 11/5/12.

Docket Numbers: RP13-179-000.

Applicants: B-R Pipeline Company.

Description: Revised Order No. 587-V NAESB Version 2.0 Compliance Filing to be effective 12/1/2012.

Filed Date: 10/24/12.

Accession Number: 20121024-5132.

Comments Due: 5 p.m. ET 11/5/12.

Docket Numbers: RP13-180-000.

Applicants: Natural Gas Pipeline Company of America.

Description: Negotiated Rate Filing—EDF Trading to be effective 11/1/2012.

Filed Date: 10/25/12.

Accession Number: 20121025-5000.

Comments Due: 5 p.m. ET 11/6/12.

Docket Numbers: RP13-181-000.

Applicants: Algonquin Gas Transmission, LLC.

Description: KeySpan Nov2012 release to BUG to be effective 11/1/2012.

Filed Date: 10/25/12.

Accession Number: 20121025-5035.

Comments Due: 5 p.m. ET 11/6/12.

Docket Numbers: RP13-182-000.

Applicants: High Island Offshore System, L.L.C.

Description: 2012 Fuel Interim Adjustment to be effective 12/1/2012.

Filed Date: 10/25/12.

Accession Number: 20121025-5074.

Comments Due: 5 p.m. ET 11/6/12.

Docket Numbers: RP13-183-000.

Applicants: Questar Overthrust Pipeline Company.

Description: WIC Non-conforming Contract No. 3719 Amd 6 to be effective 10/22/2012.

Filed Date: 10/25/12.

Accession Number: 20121025-5111.

Comments Due: 5 p.m. ET 11/6/12.

Any person desiring to intervene or protest in any of the above proceedings must file in accordance with Rules 211 and 214 of the Commission's Regulations (18 CFR § 385.211 and 385.214) on or before 5:00 p.m. Eastern time on the specified comment date. Protests may be considered, but intervention is necessary to become a party to the proceeding.

Filings in Existing Proceedings

Docket Numbers: RP12-1080-001.

Applicants: Steuben Gas Storage Company.

Description: Steuben Gas Storage Company—Revisions to Order No. 587-V Compliance Filing to be effective 12/1/2012.

Filed Date: 10/25/12.

Accession Number: 20121025-5102.

Comments Due: 5 p.m. ET 11/6/12.

Docket Numbers: RP12-1104-001.

Applicants: Honeoye Storage Corporation.

Description: Volume No. 1A NAESB Order 587V December 1 2012—Amended to be effective 12/1/2012.

Filed Date: 10/25/12.

Accession Number: 20121025-5056.

Comments Due: 5 p.m. ET 11/6/12.

Docket Numbers: RP12-1121-001.

Applicants: Portland General Electric Company.

Description: Order 587-V Compliance Filing—Corrected Section 25 to be effective 12/1/2012.

Filed Date: 10/26/12.

Accession Number: 20121026-5000.

Comments Due: 5 p.m. ET 11/7/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated October 26, 2012.
Nathaniel J. Davis, Sr.
Deputy Secretary

[FR Doc. 2012-26906 Filed 11-2-12; 8:45 am]

BILLING CODE 6717-01-P